FEDERAL EMERGENCY MANAGEMENT AGENCY

Open Meeting, Technical Mapping Advisory Council

AGENCY: Federal Emergency Management Agency (FEMA).

ACTION: Notice of meeting.

SUMMARY: In accordance with § 10(a)(2) of the Federal Advisory Committee Act, 5 U.S.C. App. 1, the Federal Emergency Management Agency gives notice that the following meeting will be held:

Name: Technical Mapping Advisory Council.

Date of Meeting: March 13-14, 2000.

Place: National Geodetic Survey, 1315 East-West Highway, Silver Spring, MD 20910-3282.

Times: 8:00 a.m. to 5:00 p.m., both days.

Proposed Agenda

1. Call to Order and Announcements.

2. Action on Minutes of Previous Meetings.

3. Map Modernization Updates:

(a) Funding Issues.

(b) Map Service Center.

(c) Coastal and Riverine Erosion Study.

(d) Improving the Scoping Process.

4. Council Plans for Year 2000.

5. Council Discussion of Unmapped Areas.

6. Presentations by NGS:

(a) Recent MGS Experience with 3-D Mapping.

(b) Use of GPS to Establish Base Flood Elevations.

(c) Topo/Bathy Project.

7. New Business.

8. Adjournment.

Status: This meeting is open to the public.

FOR FURTHER INFORMATION CONTACT: Michael K. Buckley, P.E., Federal Emergency Management Agency, 500 C Street SW., room 421, Washington, DC 20472, telephone (202) 646-2756 or by facsimile at (202) 646-4596.

SUPPLEMENTARY INFORMATION: This meeting is open to the public with limited seating available on a first-come, first-served basis. Members of the general public who plan to attend the meeting should contact Ms. Sally P. Magee, Federal Emergency Management Agency, 500 C Street SW., room 442, Washington, DC 20472, telephone (202) 646-8242 or by facsimile at (202) 646-4596 on or before March 6, 2000.

Minutes of the meeting will be prepared and will be available upon request 30 days after they have been approved by the next Technical Mapping Advisory Council meeting.

Dated: March 1, 2000.
Michael J. Armstrong,
Associate Director for Mitigation.

[FR Doc. 00-5453 Filed 3-6-00; 8:45 am]

BILLING CODE 6718-04-P